DEPARTMENT OF LABOR

Employment and Training Administration

[TA-W-52,691]

American Bag Corp., Winfield, TN; Notice of Termination of Investigation

Pursuant to section 221 of the Trade Act of 1974, as amended, an investigation was initiated on August 27, 2003 in response to a petition filed by a company official on behalf of workers of American Bag Corporation, Winfield, Tennessee.

The petitioner has requested that the petition be withdrawn. Consequently, the investigation has been terminated.

Signed at Washington, DC this 1st day of October 2003.
Richard Church,
Certifying Officer, Division of Trade Adjustment Assistance.

[FR Doc. 03-27931 Filed 11-5-03; 8:45 am]

BILLING CODE 4510-30-P